DEPARTMENT OF THE INTERIOR

National Park Service

[NPS-WASO-NRNHL-18775;PPWOCRADI0, PCU00RP14.R50000]

National Register of Historic Places; Notification of Pending Nominations and Related Actions

Nominations for the following properties being considered for listing or related actions in the National Register were received by the National Park Service before July 4, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 10, 2015. Before including your address, phone number, email address, or other personal identifying information in your comment, you should be aware that your entire comment—including your personal identifying information—may be made publicly available at any time. While you can ask us in your comment to withhold your personal identifying information from public review, we cannot guarantee that we will be able to do so.

Dated: July 8, 2015.
Roger Reed,
Acting Chief, National Register of Historic Places/National Historic Landmarks Program.

ILLINOIS

Cook County

Central Berwyn Bungalow Historic District, Roughly bounded by Cermack Rd., Home, Ridgeland & Cuyler Aves., 26th St., Berwyn, 15000521

Central Manufacturing District—Pershing Road Development Historic District, S. side of W. Pershing Rd. from 1831 to 2245 & 1950., Chicago, 15000522

St. Clair County

Blair Historic District, Parts of 1st, 2nd, 3rd, A, B, High, Illinois, Main & Washington Sts., Belleville, 15000523

Winnebago County

East Rockford Historic District (Boundary Increase and Additional Documentation), Roughly bounded by Rock R., Market, 4th & Walnut Sts., Rockford, 15000525

Gordon Brothers and R.H. Shumway Building, 624-642 Cedar St., Rockford, 15000524

MARYLAND

Kent County

Hopeful Unity, 25789 Lambs Meadow Rd., Worton, 15000526

MINNESOTA

Hennepin County

Noerenberg Estate Barn, 2865 N. Shore Dr., Orono, 15000527

NORTH CAROLINA

Buncombe County

Seven Oaks, 82 Westwood Pl., Asheville, 15000528

Forsyth County

Memorial Industrial School, 100 Horizons Ln., Rural Hall, 15000529

Mecklenburg County

Speas Vinegar Company, 2921 N. Tryon St., Charlotte, 15000530

Randolph County

St. Paul's Methodist Episcopal Church South, 401 High Point St., Randleman, 15000531

OREGON

Multnomah County

Irvington Historic District (Boundary Decrease), (Historic Residential Suburbs in the United States, 1830-1960 MPS) Roughly bounded by NE. Fremont, NE. Broadway, NE. 27th & 7th Aves., Portland, 15000532

PENNSYLVANIA

Bedford County

Dutch Corner Historic Agricultural District, (Agricultural Resources of Pennsylvania c1700-1960 MPS) Roughly bounded by Evitts Mt., Bedford Twp. Line, former Dunning Creek RR. and William Penn Hwy., Bedford Township, 15000533

Lancaster County

Caernarvon Presbyterian Church, 2148 Main St., Churchtown, 15000534

Lebanon County

Pennsylvania Chautauqua Historic District, Roughly bounded by State Game Lands, PA 117, Pinch Rd., Lancaster & Pennsylvania Aves., Mount Gretna, 15000535

[FR Doc. 2015-18117 Filed 7-23-15; 8:45 am]

BILLING CODE 4312-51-P